OFFICE OF THE UNITED STATES TRADE REPRESENTATIVE

Probable Effect of Modifications to the United States-Singapore Free Trade Agreement To Accelerate the Reduction of Tariffs on Certain Articles and Modify the Rule of Origin Rule for One Article

AGENCY: Office of the United States Trade Representative.

SUMMARY: The United States Trade Representative (USTR) is requesting public input as to the probable effect certain modifications to tariff treatment of imports under the United States-Singapore Free Trade Agreement on total U.S. trade, domestic producers, and workers in the affected industries. Specifically, USTR is evaluating proposals to accelerate the planned reduction in duties on nutritionals, peanuts, and polycarbonates of Singapore and to modify the rule of origin for photocopiers of Singapore. In addition, USTR is soliciting proposals regarding what sort of concessions Singapore, which does not impose duties on imports from the United States, could make to maintain the balance of concessions if these tariff acceleration requests are approved.

FOR FURTHER INFORMATION CONTACT: Information may be obtained from Jeri Jensen, Office of Southeast Asia and the Pacific and Pharmaceutical Policy (202-395-6851). The electronic mail address for any submissions is fr0625@ustr.eop.gov. General information about USTR may also be obtained by accessing its Internet server (http://www.ustr.gov).

SUPPLEMENTARY INFORMATION: Pursuant to the provisions of the United States-Singapore Free Trade Agreement (USSFTA), the United States and Singapore have agreed to enter into consultations to consider acceleration of the reduction or elimination of tariffs on certain items and a change to the rule of origin for an item. In accordance with Article 2.2.3 of the United State-Singapore Free Trade Agreement, the Parties are authorized to accelerate tariff reduction or elimination on a faster schedule than required in the Agreement. In accordance with Article 3.18.2 of the USSFTA, the United States and Singapore consult regularly to discuss necessary amendments to the USSFTA's rules of origin. Article 20.1.2(d) of the USSFTA authorizes the Joint Committee, which is composed of the designates of the U.S. Trade Representative and Singapore's Minister of Trade and Industry, to consider and adopt amendments to the agreement. Under Section 201(b) of United States-Singapore Free Trade Agreement Implementation Act (Act), 19 U.S.C. 3805, note, the President is authorized to proclaim modifications in duty treatment or continuation of any duty that the President considers to be necessary or appropriate to maintain the general level of reciprocal and mutually advantageous concessions, subject to the Act's consultation and layover requirements. In accordance with the Act, USTR will request advice regarding the potential impact of the proposed actions from the U.S. International Trade Commission.

USTR is specifically interested in determining the probable economic effect of accelerating the reduction of U.S. duties on three products and of changing the USSFTA rules of origin for photocopiers (HS 9009.1200) on domestic industries producing like or directly competitive articles, workers in these industries, and on consumers of the affected goods. The three products potentially subject to accelerated tariff reduction are nutritionals “preparations for infant use, put up for retail sale” (HS 1901.10), peanuts in snack products (HS 2008.11), and polycarbonates (HS 3907.40.00). A list of the proposed modifications to the tariff reduction schedules is available from the Office of Southeast Asia and Pacific and Pharmaceutical Policy.

Written Submissions: No public hearing is being scheduled in connection with this request. However, interested parties are invited to submit written statements concerning any economic effects of the proposed modifications. In order to facilitate prompt consideration, USTR requests electronic mail (e-mail) submission of any statements submitted in response to this notice. E-mail submissions should be single copy transmissions, and use the following e-mail subject line: “Acceleration in Duty Reduction Under USSFTA.” Documents should be submitted as WordPerfect (“.WPD”), MS Word (“.DOC”), or text (“.TXT”) files. Documents should not be submitted as electronic image files or contain imbedded images (for example, “.JPG”, “.TIF”, “.PDF”, “.BMP”, or “.GIF”) as these files are often excessively large. Supporting documentation submitted in spreadsheets form is acceptable in Quattro Pro or Excel, pre-formatted for printing on 8½ × 11 inch paper. To the extent possible, any data attachments to the submission should be included in the same file as the submission itself, and not as separate files. E-mail submissions should not include separate cover letters or messages in the body of the e-mail. Information that might appear in any cover letter should be included directly in the attached file containing the submission itself, including the identity of the submitter and the submitter's e-mail address.

Commercial or financial information that a submitter desires USTR to hold in confidence must be submitted on separate sheets of paper, each clearly marked at the top and bottom as “Confidential Business Information”. For any document containing business confidential information submitted as an electronic file attached to an e-mail transmission, in addition to the proper marking at the top and bottom of each page as previously specified, the file name of the business confidential version should begin with the characters “BC-”, and the file name of the public version should begin with the characters “P-”. The “P-” or “BC-” should be followed by the name of the person or party submitting the document. All written submissions, except for confidential business information, will be made available for inspection by interested parties. To ensure consideration by USTR, all statements must be received no later than the close of business on September 15, 2006. All submissions should be submitted by electronic mail (e-mail) to: FR0625@ustr.eop.gov. Persons with mobility impairments who will need special assistance in gaining access to USTR or who are otherwise unable to submit comments by e-mail should contact the USTR Office of Southeast Asia and the Pacific and Pharmaceutical Policy at 202-395-3644.

Barbara Weisel,
Assistant U.S. Trade Representative, Office of Southeast Asia and the Pacific and Pharmaceutical Policy.

[FR Doc. E6-13117 Filed 8-10-06; 8:45 am]

BILLING CODE 3190-W6-P